DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 22, 2024 will be considered. Written comments and recommendations for the proposed information collection should be submitted within 30 days of the publication of this notice on the following website https://www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Requirement for National Directory of New Hires Employment Verification.

OMB Control Number: 0584-0608.

Summary of Collection: In 2016, an Interim Final Rule RIN 0584-AE36, titled “Supplemental Nutrition Assistance Program: Requirement for National Directory of New Hires Employment Verification and Annual Program Activity Reporting,” was published in the Federal Register. This rule codified section 4013 of the Agricultural Act of 2014, requiring State agencies to access employment data through the National Directory of New Hires (NDNH) at the time of certification, including recertification, to determine eligibility status and correct benefit amount for SNAP applicants. The rule also amended regulations to increase the frequency of the requirement for State agency submission of the Program Activity Statement from an annual requirement based on the State fiscal year to a quarterly requirement.

Need and Use of the Information: Supplemental Nutrition Assistance Program (SNAP) regulations at 7 CFR 272.16 require that each State agency must compare identifiable information about each adult household member against data from the U.S. Department of Health and Human Services' (HHS) National Directory of New Hires (NDNH). This comparison will be used to determine the eligibility status of the household and determine the correct benefit amount the household should receive. Following OMB approval of this collection, FNS intends to merge this collection with OMB control number 0584-0064 and determine which provisions if any will be maintained in this collection at a future date.

Verification of Match; Notice of Match Results: The State agency must independently verify the information prior to taking any adverse action against an individual. Should the State agency receive employment information via the NDNH that was previously unreported by the household, the State agency must issue a notice of match results informing the household of the match and providing them with the opportunity to verify the information. The State agency may contact the employer directly, depending upon applicable reporting requirements as defined at 7 CFR 273.12.

Notice of Adverse action or Notice of Denial: The Notice of Adverse Action or Notice of Denial is issued by State agencies to participating households whose benefits will be reduced or terminated as the result of a change in household circumstances. Should the State agency independently verify unreported or underreported income discovered through NDNH, and that income results in a reduction of benefits or change in eligibility, the State agency must take action by issuing the household a Notice of Adverse Action or Notice of Denial and adjust or deny benefits accordingly.

Description of Respondents: State and Local Government, Individuals and Households.

Number of Respondents: 25,187,665.15.

Frequency of Responses: Reporting: On occasion.

Total Burden Hours: 3,365,064.98.

Rachelle Ragland-Greene,
Departmental Information Collection Clearance Officer.

[FR Doc. 2024-16157 Filed 7-22-24; 8:45 am]

BILLING CODE 3410-30-P